DEPARTMENT OF TRANSPORTATION

Federal Aviation Administration

14 CFR Part 39

[Docket No. 99-NE-58-AD; Amendment 39-12238; AD 2001-10-12]

RIN 2120-AA64

Airworthiness Directives; GE Aircraft Engines CJ610 Series Turbojet and CF700 Turbofan Engines

AGENCY: Federal Aviation Administration, DOT.

ACTION: Final rule; request for comments.

SUMMARY: This amendment supersedes an existing airworthiness directive (AD) that is applicable to GE Aircraft Engines (GEAE) CJ610 series turbojet and CF700 series turbofan engines that currently requires removal of certain unapproved parts before further flight. This amendment requires removal of additional unapproved parts. This amendment is prompted by the discovery by the FAA of additional unapproved parts not listed in the original AD that have been introduced into the field and might be installed on the affected engines. The actions specified in this AD are intended to prevent the use of unapproved parts which could lead to an uncontained engine failure and damage to the airplane.

DATES: Effective June 7, 2001.

Comments for inclusion in the Rules Docket must be received on or before July 23, 2001.

ADDRESSES: Submit comments in triplicate to the Federal Aviation Administration (FAA), New England Region, Office of the Regional Counsel, Attention: Rules Docket No. 99-NE-58-AD, 12 New England Executive Park, Burlington, MA 01803-5299. Comments may also be sent via the Internet using the following address: “9-ane-adcomment@faa.gov”. Comments sent via the Internet must contain the docket number in the subject line.

FOR FURTHER INFORMATION CONTACT: Kevin Donovan, Aerospace Engineer, Engine Certification Office, FAA, Engine and Propeller Directorate, 12 New England Executive Park, Burlington, MA 01803-5299; telephone (781) 238-7743, fax (238) 238-7199.

SUPPLEMENTARY INFORMATION: On January 5, 2000, the FAA issued AD 2000-01-09, Amendment 39-11506 (65 FR 1771) to require removal of certain unapproved parts before further flight. That amendment was prompted by findings that life-limited parts, with inaccurate records, have been introduced into the field and might be installed on the affected engines. That condition, if not corrected, could lead to an uncontained engine failure and damage to the airplane.

Since the issuance of that AD, the FAA discovered a compressor rotor during an audit with suspected military markings. The manufacturer confirmed that the marking was an electro-etched Low Cycle Fatigue Cycles (LCFC) marking used strictly on military parts. The original AD, AD 2000-01-09, did not identify this particular compressor rotor or the three additional rotors containing unapproved parts discovered at other locations during subsequent audits.

FAA's Determination of an Unsafe Condition and Proposed Actions

Since an unsafe condition has been identified that is likely to exist or develop on other GE Aircraft Engines (GEAE) CJ610 series turbojet and CF700 series turbofan engines of the same type design, this AD supersedes AD 2000-01-09 to require removal before further flight of the additional unapproved parts not listed in the original AD that have been introduced into the field and might be installed on the affected engines.

Immediate Adoption of This AD

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this action must submit a self-addressed, stamped postcard on which the following statement is made: “Comments to Docket Number 99-NE-58-AD.” The postcard will be date stamped and returned to the commenter.

Regulatory Impact

This final rule does not have federalism implications, as defined in Executive Order 13132, because it would not have a substantial direct effect on the States, on the relationship between the national government and the States, or on the distribution of power and responsibilities among the various levels of government. Accordingly, the FAA has not consulted with state authorities prior to publication of this final rule.

The FAA has determined that this regulation is an emergency regulation that must be issued immediately to correct an unsafe condition in aircraft, and is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR-part-39) as follows:

PART 39—AIRWORTHINESS DIRECTIVES

1. The authority citation for part 39 continues to read as follows:

Authority: 49 U.S.C. 106(g), 40113, 44701.

§ 39.13 [Amended]

2. Section 39.13 is amended by removing Amendment 39-11506 (65 FR 1771, January 12, 2000), and by adding a new airworthiness directive (AD), Amendment 39-12238, to read as follows:

2001-10-12 GE Aircraft Engines (GEAE) Amendment 39-12238. Docket 99-NE-58-AD. Supersedes AD 2000-01-09, Amendment 39-11506.

Applicability

This airworthiness directive (AD) is applicable to GEAE CJ610 series turbojet and CF700 series turbofan engines, with parts listed by part number (P/N) and serial number (SN) in Tables I and II, installed. These engines are installed on, but not limited to, the Dassault-Aviation Fan Jet Falcon 20 series, Sabreliner NA265 series, Learjet 20 series, Israel Aircraft Industries Westwind series, Hansa Jet, Aero Commander, and Jet Commander.

Note 1: This AD applies to each engine identified in the preceding applicability provision, regardless of whether it has been modified, altered, or repaired in the area subject to the requirements of this AD. For engines that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance

Compliance with this AD is required as indicated, unless already done.

To prevent the use of unapproved parts, which could lead to an uncontained engine failure and damage to the airplane, accomplish the following:

Replacement of Unapproved Parts

(a) Before further flight, remove any part listed by P/N and SN in Tables I and II of this AD, and replace it with a serviceable part:

Table I.—Unapproved Parts Listed in AD 2000-01-09
Part number | Part name | Serial number
3007T98G01 | Shaft, compressor drive | HPCTQA11693
3007T98G01 | Shaft, compressor drive | HPCTQA11929
3007T98G01 | Shaft, compressor drive | HPCTQA1929
3007T98G01 | Shaft, compressor drive | HPGTQA9947
3007T98G01 | Shaft, compressor drive | TQA14300
37D401014P101 | Torque ring, turbine | GGM681
37D401014P101 | Torque ring, turbine | GGMCBK1977
37D401014P101 | Torque ring, turbine | GGMWZA1230
37D401014P101 | Torque ring, turbine | GGMWZA2322
37D401014P101 | Torque ring, turbine | GGMWZA4665
37D401014P101 | Torque ring, turbine | PMB08403P
37D401014P102 | Torque ring, turbine | PMB19204
37D401302P101 | Spacer, stage 2 | GATI2099WYR
37D401302P101 | Spacer, stage 2 | GATWZA09656
37D401302P101 | Spacer, stage 2 | GATWZA10002
37D401302P101 | Spacer, stage 2 | GATWZA10148
37D401302P101 | Spacer, stage 2 | GATWZA5419
37D401303P102 | Spacer, stage 3 | GATCBK02192
37D401303P102 | Spacer, stage 3 | GATWZA12030
37D401303P102 | Spacer, stage 3 | GGMWZA1022
37D401303P104 | Spacer, stage 3 | GATWYR5364
37D401304P104 | Spacer, stage 4 | GATANWA2378
37D401305P103 | Spacer, stage 5 | GATANW9528
37D401305P103 | Spacer, stage 5 | GATANWA7441
37D401305P103 | Spacer, stage 5 | GATANWA8542
37D401305P103 | Spacer, stage 5 | GGMANW3172
37D401306P103 | Spacer, stage 6 | GATANW6380
37D401306P103 | Spacer, stage 6 | GGMANW2331
37D401306P105 | Spacer, stage 6 | GATCDY71386
37D401306P105 | Spacer, stage 6 | GATO7040CDY
37D401307P103 | Spacer, stage 7 | GAT59653
37D401307P103 | Spacer, stage 7 | GATANW7170
37D401307P103 | Spacer, stage 7 | GATANWA7134
37D401307P103 | Spacer, stage 7 | GGMANW3104
37D401312P101 | Disc, stage 2 | GATI0156WZA
37D401312P101 | Disc, stage 2 | GATO8253WZA
37D401312P101 | Disc, stage 2 | GATWZA3983
37D401312P101 | Disc, stage 2 | GATWZA6604
37D401312P101 | Disc, stage 2 | GGMCBK620
37D401312P101 | Disc, stage 2 | GGMLBA4491
37D401313P101 | Disc, stage 3 | GATI3249WYI
37D401313P101 | Disc, stage 3 | GATO7644WZA
37D401313P101 | Disc, stage 3 | GATWZA6522
37D401313P101 | Disc, stage 3 | GATWZA6723
37D401313P101 | Disc, stage 3 | GGMLBA2102
37D401314P102 | Disc, stage 4 | GAT05572WZA
37D401314P102 | Disc, stage 4 | GATO4383WZA
37D401314P102 | Disc, stage 4 | GGMWZA6818
37D401315P101 | Disc, stage 5 | GAT12406WZA
37D401315P101 | Disc, stage 5 | GATWZA4753
37D401315P101 | Disc, stage 5 | GATWZA7093
37D401316P101 | Disc, stage 6 | GAT10162WZA
37D401316P101 | Disc, stage 6 | GATWZA4435
37D401316P101 | Disc, stage 6 | GATWZA7208
37D401316P101 | Disc, stage 6 | GGMWZA3376
37D401317P101 | Disc, stage 7 | GAT10013WZA
37D401317P101 | Disc, stage 7 | GAT13322WZA
37D401317P101 | Disc, stage 7 | GATI5009WYR
37D401709P101 | Disc, stage 8 | GATO3900WZA
37D401709P101 | Disc, stage 8 | GATO5381WZA
37D401709P101 | Disc, stage 8 | GGMWZA6906
37D401709P101 | Disc, stage 8 | GGMWZA6942
37E501428P102 | Disc and shaft, stage 1 | GATI2001WZA
37E501428P102 | Disc and shaft, stage 1 | GATWZA8639
37E501428P106 | Disc and shaft, stage 1 | GATO8474WZA
37E501428P106 | Disc and shaft, stage 1 | GGMWZA3231
4010T01P01 | Seal labyrinth, stage 8 | JADCSF334P59
4010T01P01 | Seal labyrinth, stage 8 | JADCSF5222
4010T01P01 | Seal labyrinth, stage 8 | JADCSF5444P21
4010T01P01 | Seal labyrinth, stage 8 | JADMCI3214
4036T24P01 | Turbine wheel, stage 2 | GATWYR14035
4036T24P01 | Turbine wheel, stage 2 | GATWYR14655
5013T79P01 | Disc, stage 5 | GATI1679WZA
5013T82P01 | Disc, stage 7 | GATI7662WYR
5013T88P01 | Spacer, stage 4 | GAT69935
5013T88P01 | Spacer, stage 4 | GATCDY66715
5013T89P01 | Spacer, stage 5 | GAT60180CDY
5013T89P01 | Spacer, stage 5 | GAT60180CDY
5013T90P01 | Spacer, stage 7 | GAT81678CDY
5013T90P01 | Spacer, stage 7 | GATCDY82036
5018T16P01 | Disc, stage 4 | GAT12222WYR
6028T44P01 | Turbine wheel, stage 1 | GAT11900
6028T44P01 | Turbine wheel, stage 1 | GAT13094
6028T44P01 | Turbine wheel, stage 1 | GAT14749
6028T44P01 | Turbine wheel, stage 1 | GAT15160
6028T44P01 | Turbine wheel, stage 1 | GAT15396WYR
6028T44P01 | Turbine wheel, stage 1 | GAT15703
6028T44P01 | Turbine wheel, stage 1 | GAT15821
6028T44P01 | Turbine wheel, stage 1 | GAT15899
6028T44P01 | Turbine wheel, stage 1 | GAT59743
6028T44P01 | Turbine wheel, stage 1 | GAT60190
6028T44P01 | Turbine wheel, stage 1 | GAT60197
6028T44P01 | Turbine wheel, stage 1 | GAT60483
6028T44P01 | Turbine wheel, stage 1 | GAT7321
6028T44P01 | Turbine wheel, stage 1 | GATA8475
6028T44P01 | Turbine wheel, stage 1 | GATA8492
6028T44P01 | Turbine wheel, stage 1 | GATAJ204
6028T44P01 | Turbine wheel, stage 1 | GATB6925
6028T44P01 | Turbine wheel, stage 1 | GATBE998
6028T44P01 | Turbine wheel, stage 1 | GATE2150
6028T44P01 | Turbine wheel, stage 1 | GATE2259
6028T44P01 | Turbine wheel, stage 1 | GATE2291
6028T44P01 | Turbine wheel, stage 1 | GATE2336
6028T44P01 | Turbine wheel, stage 1 | GATF4496
6028T44P01 | Turbine wheel, stage 1 | GATF4507
6028T44P01 | Turbine wheel, stage 1 | GATFE953
6028T44P01 | Turbine wheel, stage 1 | GATG6470
6028T44P01 | Turbine wheel, stage 1 | GATV6541
6028T44P01 | Turbine wheel, stage 1 | GATV6588
6028T44P01 | Turbine wheel, stage 1 | GATW1573
634E583P04 | Turbine wheel, stage 1 | GATWZA4994
634E583P5 | Turbine wheel, stage 1 | GAT10650
634E583P5 | Turbine wheel, stage 1 | GAT13048
646C596P2 | Turbine wheel, stage 2 | GATCBK01912
646C596P2 | Turbine wheel, stage 2 | GATWYR12725
646C596P2 * | Turbine wheel, stage 2 | GATWZA9723
646C594P2 * | Turbine wheel, stage 2 | GATWZA9723
646C594P1 * | Turbine wheel, stage 2 | GATWZA9723
841B690P7 | Assy, Turbine wheel, stage 1 | GAT9383WZA
841B690P7 | Assy, Turbine wheel, stage 1 | GATMKF07225
841B690P7 | Assy, Turbine wheel, stage 1 | GATWYR12358
841B690P7 | Assy, Turbine wheel, stage 1 | GATWYR13457
841B690P7 | Assy, Turbine wheel, stage 1 | GATWYR13677
841B690P7 | Assy, Turbine wheel, stage 1 | GATWZA8110
841B690P7 | Assy, Turbine wheel, stage 1 | GATWZA8263
841B690P7 | Assy, Turbine wheel, stage 1 | GATWZA9182
841B690P7 | Assy, Turbine wheel, stage 1 | OJL0145
841B690P7 | Assy, Turbine wheel, stage 1 | WDBMKF07219
* The FAA has determined that up to three Stage 2 Turbine wheels, SN GATWZA9723, may have been distributed with three different P/N's. Therefore, while only P/N 646C596P1 is an approved P/N for the CJ610 and CF700 model engine, all three part numbers are listed.

Table II.—Additional Unapproved Parts Discovered Since Publication of AD 2000-01-09
Part Number | Part name | Serial Number
37E501428P102 | 1st Stg Disc/Shaft/Spacer | GAT14210WYR
37E501428P106 | Disc & Shaft Stg 1 Comp | GAT115140WZA
37D401312P101 | Disc Stg 2 Comp | GAT2107WYR
37D401312P101 | Disc Stg 2 Comp | GAT07432WZA
37D401313P101 | Disc Stg 3 Comp | GAT2432WYR
37D401313P101 | Disc Stg 3 Comp | GAT10717WZA
5018T16P01 | Disc Stg 4 Comp | GAT10058WYR
5018T16P01 | Disc Stg 4 Comp | GAT05724WZA
37D401315P101 | Disc Stg 5 Comp | GAT16068WYR
37D401316P101 | Disc Stg 6 Comp | GAT15035WYR
37D401317P101 | Disc Stg 7 Comp | GAT6493WYR
5013T82P01 | Disc Stg 7 Comp | GAT15819WYR
37D401709P101 | Disc Stg 8 Comp | GAT08842WYR
5013T83P01 | Disc Stg 8 Comp | GAT07464WYR
4010T010P02 | Seal Rot Stg 8 Comp | JADMSA09181
4010T010P01 | Seal Rot Stg 8 Comp | APVM0F00180
4010T01P01 | Seal Rot Stg 8 Comp | APVM0F00192
5004T73P02 | Shaft Rear Comp | HPCTQA12100
3007T98G01 | Shaft Rear Comp | HPCTQ1474
37D401303P102 | Spacer Stg 3 Comp | GGMWZA1112
5013T88P01 | Spacer Stg 4 Comp | GAT1A402
37D401302P101 | Spacer Stg 2 Comp | GATWRY12483
37D401302P103 | Spacer Stg 2 Comp | GATE0A00429
37D401303P102 | Spacer Stg 3 Comp | GATWZA5858
37D401304P103 | Spacer Stg 4 Comp | GATANW10309
37D401304P103 | Spacer Stg 4 Comp | GATANWA5510
5013T88P01 | Spacer Stg 4 Comp | GATCDY61557
37D401305P103 | Spacer Stg 5 Comp | GATANW11066
37D401306P103 | Spacer Stg 6 Comp | GATANW09191
37D401306P105 | Spacer Stg 6 Comp | GAT8654CDY
37D401307P103 | Spacer Stg 7 Comp | GATANW9286
37D401307P103 | Spacer Stg 7 Comp | GATANWA6612

Alternate Methods of Compliance

(b) An alternative method of compliance or adjustment of the compliance time that provides an acceptable level of safety may be used if approved by the Manager, Engine Certification Office (ECO). Operators shall submit their requests through an appropriate FAA Principal Maintenance Inspector, who may add comments and then send it to the Manager, ECO.

Note 2: Information concerning the existence of approved alternative methods of compliance with this airworthiness directive, if any, may be obtained from the ECO.

Effective Date of This AD

(c) This amendment becomes effective on June 7, 2001.

Issued in Burlington, Massachusetts, on May 16, 2001.
Diane S. Romanosky,
Acting Manager, Engine and Propeller Directorate, Aircraft Certification Service.

[FR Doc. 01-12942 Filed 5-22-01; 8:45 am]

BILLING CODE 4910-13-P